DEPARTMENT OF JUSTICE

Antitrust Division

Notice Pursuant to the National Cooperative Research and Production Act of 1993—Southwest Research Institute: Validation of a Methodology for Assessing Defect Tolerance of Welded Reeled Risers

Notice is hereby given that, on August 12, 2004, pursuant to section 6(a) of the National Cooperative Research and Production Act of 1993, 15 U.S.C. 4301 et seq. (“the Act”), Southwest Research Institute (“SwRI®”) has filed written notifications simultaneously with the Attorney General and the Federal Trade Commission disclosing (1) the identities of the parties to this project and (2) the nature and objectives of a venture titled “Validation of a Methodology for Assessing Defect Tolerance of Welded Reeled Risers.” The notifications were filed for the purpose of invoking the Act's provisions limiting the recovery of antitrust plaintiffs to actual damages under specified circumstances. Pursuant to section 6(b) of the Act, the identities of the parties are Chevron Texaco Exploration and and Production Technology Company, San Ramon, CA; ExxonMobil Development Company, Houston, TX; and Shell International Exploration & Production, Inc., Houston, TX. The nature and objectives of the venture are to validate the EPFM predictions of ductile tearing and tear-fatigue of pre-existing surface defects, as calculated by FlawPro ™, using full-scale pipes subjected to strain excursions representative of pipe reeling and straightening and to assess the influence of reeling strains on fatigue in sweet and sour environments, as well as validate FlawPro ™’s predictions of fatigue performance in these service environments. SwRI originally developed FlawPro ™ computer software for analysis of reeled pipe in October 2002.

Membership in this research project group remains open, and the participants intend to file additional written notification disclosing all changes in membership or planned activities.

Dorothy B. Fountain,
Deputy Director of Operations, Antitrust Division.

[FR Doc. 04-20249 Filed 9-3-04; 8:45 am]

BILLING CODE 4410-11-M